DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona: Pinal (FEMA Docket No.: B-2044) | Unincorporated areas of Pinal County (19-09-1873P). | The Honorable Anthony Smith, Chairman, Pinal County Board of Supervisors, P.O. Box 827, Florence, AZ 85132. | Pinal County Flood Control District, 31 North Pinal Street, Building F, Florence, AZ 85132. | Oct. 30, 2020 | 040077
Arkansas: Benton (FEMA Docket No.: B-2044) | City of Rogers (19-06-2805P). | The Honorable Greg Hines, Mayor, City of Rogers, 301 West Chestnut Street, Rogers, AR 72756. | Community Development Department, 301 West Chestnut Street, Rogers, AR 72756. | Oct. 27, 2020 | 050013
Colorado:
Arapahoe (FEMA Docket No.: B-2052) | City of Littleton (20-08-0155P). | The Honorable Jerry Valdes, Mayor, City of Littleton, 2255 West Berry Avenue, Littleton, CO 80120. | City Hall, 2255 West Berry Avenue, Littleton, CO 80120. | Nov. 6, 2020 | 080017
Arapahoe (FEMA Docket No.: B-2052) | Town of Columbine Valley (20-08-0155P). | The Honorable Roy Palmer, Mayor, Town of Columbine Valley, 2 Middlefield Road, Columbine Valley, CO 80123. | Town Hall, 5931 South Middlefield Road, Columbine Valley, CO 80123. | Nov. 6, 2020 | 080014
Boulder (FEMA Docket No.: B-2049) | City of Boulder (19-08-0976P). | The Honorable Sam Weaver, Mayor, City of Boulder, 1777 Broadway Street, Boulder, CO 80302. | Central Records Department, 1777 Broadway Street, Boulder, CO 80302. | Oct. 30, 2020 | 080024
Boulder (FEMA Docket No.: B-2049) | Unincorporated areas of Boulder County (19-08-0976P). | The Honorable Deb Gardner, Chair, Boulder County Board of Commissioners, P.O. Box 471, Boulder, CO 80306. | Boulder County Department of Public Works, 1739 Broadway, Suite 300, Boulder, CO 80306. | Oct. 30, 2020 | 080023
Weld (FEMA Docket No.: B-2044) | City of Evans (19-08-0862P). | The Honorable Brian Rudy, Mayor, City of Evans, 1100 37th Street, Evans, CO 80620. | Engineering Department, 1100 37th Street, Evans, CO 80620. | Oct. 26, 2020 | 080182
Weld (FEMA Docket No.: B-2044) | Unincorporated areas of Weld County (19-08-0862P). | The Honorable Mike Freeman, Chairman, Weld County Board of Commissioners, P.O. Box 758, Greeley, CO 80632. | Weld County Department of Planning Services, 1555 North 17th Avenue, Greeley, CO 80631. | Oct. 26, 2020 | 080266
Florida:
Alachua (FEMA Docket No.: B-2044) | City of Hawthorne (18-04-6771P). | The Honorable Matthew Surrency, Mayor, City of Hawthorne, P.O. Box 2413, Hawthorne, FL 32640. | Public Works Department, 6875 Southeast 221st Street, Hawthorne, FL 32640. | Oct. 26, 2020 | 120682
Alachua (FEMA Docket No.: B-2044) | Unincorporated areas of Alachua County (18-04-6771P). | The Honorable Robert “Hutch” Hutchinson, Chairman, Alachua County Board of Commissioners, 12 Southeast 1st Street, 2nd Floor, Gainesville, FL 32601. | Alachua County Public Works Department, 5620 Northwest 120th Lane, Gainesville, FL 32653. | Oct. 26, 2020 | 120001
Charlotte (FEMA Docket No.: B-2044) | Unincorporated areas of Charlotte County (20-04-2886P). | The Honorable Bill Truex, Chairman, Charlotte County Board of Commissioners, 18500 Murdock Circle, Suite 536, Port Charlotte, FL 33948. | Charlotte County Building Department, 18400 Murdock Circle, Port Charlotte, FL 33948. | Nov. 6, 2020 | 120061
Gulf (FEMA Docket No.: B-2052) | Unincorporated areas of Gulf County (20-04-1556P). | Mr. Michael Hammond, Gulf County Administrator, 1000 Cecil G. Costin, Sr. Boulevard, Room 302, Port St. Joe, FL 32456. | Gulf County Planning and Development Department, 1000 Cecil G. Costin Sr. Boulevard, Room 303, Port St. Joe, FL 32456. | Oct. 30, 2020 | 120098
Lee (FEMA Docket No.: B-2049) | Town of Fort Myers Beach (20-04-1546P). | The Honorable Ray Murphy, Mayor, Town of Fort Myers Beach, 2525 Estero Boulevard, Fort Myers Beach, FL 33931. | Community Development Department, 2525 Estero Boulevard, Fort Myers Beach, FL 33931. | Oct. 22, 2020 | 120673
Monroe (FEMA Docket No.: B-2044) | Unincorporated areas of Monroe County (20-04-2774P). | The Honorable Heather Carruthers, Mayor, Monroe County Board of Commissioners, 500 Whitehead Street, Suite 102, Key West, FL 33040. | Monroe County Building Department, 2798 Overseas Highway, Suite 300, Marathon, FL 33050. | Nov. 2, 2020 | 125129
Orange (FEMA Docket No.: B-2044) | Unincorporated areas of Orange County (19-04-5112P). | The Honorable Jerry L. Demings, Mayor, Orange County, 201 South Rosalind Avenue, 5th Floor, Orlando, FL 32801. | Orange County Stormwater Department, 4200 South John Young Parkway, Orlando, FL 32839. | Oct. 27, 2020 | 120179
Georgia:
Douglas (FEMA Docket No.: B-2044) | Unincorporated areas of Douglas County (19-04-5352P). | The Honorable Romona Jackson Jones, Chair, Douglas County Board of Commissioners, 8700 Hospital Drive, 3rd Floor, Douglasville, GA 30134. | Douglas County Development Services Department, 8700 Hospital Drive, Douglasville, GA 30134. | Oct. 23, 2020 | 130306
Richmond (FEMA Docket No.: B-2049) | City of Augusta (19-04-6697P). | The Honorable Hardie Davis, Jr., Mayor, City of Augusta, 535 Telfair Street, Suite 200, Augusta, GA 30901. | Planning and Development Department, 535 Telfair Street, Suite 300, Augusta, GA 30901. | Oct. 30, 2020 | 130158
Maine:
Washington (FEMA Docket No.: B-2044) | Baring Plantation (20-01-0666P). | Ms. Stacie Beyer, Planning Manager, Baring Plantation, Land Use Planning Commission, 22 State House Station, Augusta, ME 04333. | Baring Plantation Hall, 22 State House Station, Augusta, ME 04333. | Oct. 26, 2020 | 230468
Washington (FEMA Docket No.: B-2052) | City of Calais (20-01-0624P). | The Honorable Billy Howard, Mayor, City of Calais, P.O. Box 413, Calais, ME 04619. | City Hall, 11 Church Street, Calais, ME 04619. | Oct. 22, 2020 | 230134
Washington (FEMA Docket No.: B-2044) | Grand Lake Stream Plantation (20-01-0494P). | Ms. Stacie Beyer, Planning Manager, Grand Lake Stream Plantation Land Use Planning Commission, 18 Elkins Lane, Augusta, ME 04333. | Grand Lake Stream Plantation Hall, 22 SHS, 18 Elkins Lane, Augusta, ME 04333. | Oct. 22, 2020 | 230469
Washington (FEMA Docket No.: B-2044) | Town of Alexander (20-01-0625P). | The Honorable Foster Carlow Jr., Chairman, Town of Alexander Board of Selectmen, 50 Cooper Road, Alexander, ME 04694. | Town Hall, 50 Cooper Road, Alexander, ME 04694. | Oct. 23, 2020 | 230303
Washington (FEMA Docket No.: B-2044). | Town of Alexander (20-01-0666P). | The Honorable Foster Carlow Jr., Chairman, Town of Alexander Board of Selectmen, 50 Cooper Road, Alexander, ME 04694. | Town Hall, 50 Cooper Road, Alexander, ME 04694. | Oct. 26, 2020 | 230303
Washington (FEMA Docket No.: B-2044) | Town of Baileyville (20-01-0666P). | Mr. Chris Loughlin, Town of Baileyville, Manager, P.O. Box 370, Baileyville, ME 04694. | Town Hall, 63 Broadway, Baileyville, ME 04694. | Oct. 26, 2020 | 230304
Washington (FEMA Docket No.: B-2044) | Town of Crawford (20-01-0625P). | The Honorable Coburn Wallace, Chairman, Town of Crawford Board of Selectmen, 359 Crawford Arm Road, Crawford, ME 04694. | Town Hall, 359 Crawford Arm Road, Crawford, ME 04694. | Oct. 23, 2020 | 230309
Washington (FEMA Docket No.: B-2044) | Town of Danforth (20-01-0423P). | The Honorable Carrie Oliver, Chair, Town of Danforth Board of Selectmen, P.O. Box 117, Danforth, ME 04424. | Town Hall, 18 Central Street, Danforth, ME 04424. | Oct. 22, 2020 | 230136
Washington (FEMA Docket No.: B-2052) | Town of Northfield (20-01-0667P). | The Honorable Glen Morgan, Chairman, Town of Northfield Board of Selectmen, 1940 Northfield Road, Northfield, ME 04654. | Town Hall, 1940 Northfield Road, Northfield, ME 04654. | Oct. 22, 2020 | 230318
Washington (FEMA Docket No.: B-2052) | Town of Robbinston (20-01-0624P). | The Honorable Tom Moholland, Chairman, Town of Robbinston Board of Selectmen, 986 Ridge Road, Robbinston, ME 04671. | Town Hall, 986 Ridge Road, Robbinston, ME 04671. | Oct. 22, 2020 | 230321
Washington (FEMA Docket No.: B-2044) | Town of Talmadge (20-01-0494P). | The Honorable Zachary Beane, Chairman, Town of Talmadge Board of Selectmen, 455 Houlton Road, #13, Waite, ME 04492. | Town Hall, 14 Old Mill Road, Waite, ME 04492. | Oct. 22, 2020 | 230914
Washington (FEMA Docket No.: B-2044) | Town of Topsfield (20-01-0423P). | The Honorable Rickey Irish, Chairman, Town of Topsfield Board of Selectmen, 48 North Road, Topsfield, ME 04490. | Town Hall, 48 North Road, Topsfield, ME 04490. | Oct. 22, 2020 | 230324
Washington (FEMA Docket No.: B-2044) | Town of Topsfield (20-01-0494P). | The Honorable Rickey Irish, Chairman, Town of Topsfield Board of Selectmen, 48 North Road, Topsfield, ME 04490. | Town Hall, 48 North Road, Topsfield, ME 04490. | Oct. 22, 2020 | 230324
Washington (FEMA Docket No.: B-2044) | Town of Wesley (20-01-0625P). | The Honorable Glen Durling, Chairman, Town of Wesley Board of Selectmen, 2 Whining Pines Drive, Wesley, ME 04686. | Town Hall, 2 Whining Pines Drive, Wesley, ME 04686. | Oct. 23, 2020 | 230327
Washington (FEMA Docket No.: B-2052) | Town of Wesley (20-01-0667P). | The Honorable Glen Durling, Chairman, Town of Wesley Board of Selectmen, 2 Whining Pines Drive, Wesley, ME 04686. | Town Hall, 2 Whining Pines Drive, Wesley, ME 04686. | Oct. 22, 2020 | 230327
Washington (FEMA Docket No.: B-2044) | Township of Brookton (20-01-0423P). | Ms. Stacie Beyer, Chief Planner, Township of Brookton Land Use Planning Commission, 18 Elkins Lane, Augusta, ME 04333. | Township Hall, 22 SHS, 18 Elkins Lane, Augusta, ME 04333. | Oct. 22, 2020 | 230470
Oklahoma: Tulsa (FEMA Docket No.: B-2044) | City of Tulsa (20-06-0617P). | The Honorable G.T. Bynum, Mayor, City of Tulsa, 175 East 2nd Street, 15th Floor, Tulsa, OK 74103. | Development Services Department, 175 East 2nd Street, 4th Floor, Tulsa, OK 74103. | Oct. 30, 2020 | 405381
Pennsylvania:
Chester (FEMA Docket No.: B-2049) | Township of Easttown (20-03-0073P). | The Honorable James W. Oram, Jr., Chairman, Township of Easttown Board of Supervisors , 566 Beaumont Road, Devon, PA 19333. | Township Hall, 566 Beaumont Road, Devon, PA 19333. | Oct. 30, 2020 | 422600
Columbia (FEMA Docket No.: B-2044) | Township of Mifflin (20-03-0995X). | The Honorable Ricky L. Brown, President, Township of Mifflin Board of Supervisors, P.O. Box 359, Mifflinville, PA 18631. | Code Enforcement and Zoning Department, 207 East 1st Street, Mifflinville, PA 18631. | Oct. 26, 2020 | 421167
South Dakota:
Custer (FEMA Docket No.: B-2049) | City of Custer (20-08-0443P). | The Honorable Corbin Herman, Mayor, City of Custer, 622 Crook Street, Custer, SD 57730. | Planning and Building Department, 622 Crook Street, Custer, SD 57730. | Oct. 22, 2020 | 460019
Custer (FEMA Docket No.: B-2049) | Unincorporated areas of Custer County (20-08-0443P). | The Honorable Jim Lintz, Chairman, Custer County Board of Commissioners, 420 Mount Rushmore Road, Custer, SD 57730. | Custer County, Department of Planning and Economic Development, 420 Mount Rushmore Road, Custer, SD 57730. | Oct. 22, 2020 | 460018
Texas:
Bexar (FEMA Docket No.: B-2049) | City of San Antonio (19-06-4014P). | The Honorable Ron Nirenberg, Mayor, City of San Antonio, P.O. Box 839966, San Antonio, TX 78283. | Transportation and Capital Improvements Department, Storm Water Division, 114 West Commerce Street, 7th Floor, San Antonio, TX 78205. | Oct. 26, 2020 | 480045
Bexar (FEMA Docket No.: B-2049) | Unincorporated areas of Bexar County (19-06-3557P). | The Honorable Nelson W. Wolff, Bexar County Judge, 101 West Nueva Street, 10th Floor, San Antonio, TX 78205. | Bexar County Public Works Department, 1948 Probandt Street, San Antonio, TX 78214. | Oct. 26, 2020 | 480035
Bexar (FEMA Docket No.: B-2049) | Unincorporated areas of Bexar County (19-06-4014P). | The Honorable Nelson W. Wolff, Bexar County Judge, 101 West Nueva Street, 10th Floor, San Antonio, TX 78205. | Bexar County Public Works Department, 1948 Probandt Street, San Antonio, TX 78214. | Oct. 26, 2020 | 480035
Collin (FEMA Docket No.: B-2049) | City of McKinney (20-06-0689P). | The Honorable George Fuller, Mayor, City of McKinney, P.O. Box 517, McKinney, TX 75070. | Engineering Department, 221 North Tennessee Street, McKinney, TX 75069. | Nov. 2, 2020 | 480135
Fort Bend (FEMA Docket No.: B-2049) | Unincorporated areas of Fort Bend County (20-06-0547P). | The Honorable K.P. George, Fort Bend County Judge, 301 Jackson Street, 4th Floor, Richmond, TX 77469. | Fort Bend County Engineering Department, 301 Jackson Street, 4th Floor, Richmond, TX 77469. | Oct. 30, 2020 | 480228
Midland (FEMA Docket No.: B-2043) | City of Midland (19-06-3901P). | The Honorable Patrick Payton, Mayor, City of Midland, 300 North Loraine Street, Midland, TX 79701. | City Hall, 300 North Loraine Street, Midland, TX 79701. | Oct. 26, 2020 | 480477
Tarrant (FEMA Docket No.: B-2049) | City of Crowley (20-06-0069P). | The Honorable Billy P. Davis, Mayor, City of Crowley, 201 East Main Street, Crowley, TX 76036. | Department of Community Development, 201 East Main Street, Crowley, TX 76036. | Oct. 26, 2020 | 480591
Williamson (FEMA Docket No.: B-2049) | City of Leander (19-06-3344P). | Mr. Rick Beverlin, Manager, City of Leander, 105 North Brushy Street, Leander, TX 78641. | City Hall, 105 North Brushy Street, Leander, TX 78641. | Oct. 30, 2020 | 481536
Williamson (FEMA Docket No.: B-2049) | City of Leander (19-06-3660P). | Mr. Rick Beverlin, Manager, City of Leander, 105 North Brushy Street, Leander, TX 78641. | City Hall, 105 North Brushy Street, Leander, TX 78641. | Oct. 30, 2020 | 481536
Williamson (FEMA Docket No.: B-2044) | Unincorporated areas of Williamson County (20-06-0255P). | The Honorable Bill Gravell, Jr., Williamson County Judge, 710 South Main Street, Suite 101, Georgetown, TX 78626. | Williamson County Engineering Department, 3151 Southeast Inner Loop, Georgetown, TX 78626. | Oct. 29, 2020 | 481079
Utah:
Salt Lake (FEMA Docket No.: B-2049) | City of Riverton (20-08-0458P). | The Honorable Trent Staggs, Mayor, City of Riverton, 12830 South Redwood Road, Riverton, UT 84065. | Public Works Department, 12526 South 4150 West, Riverton, UT 84065. | Oct. 22, 2020 | 490104
Summit (FEMA Docket No.: B-2049) | Unincorporated areas of Summit County (19-08-1037P). | The Honorable Doug Clyde, Chairman, Summit County Council, P.O. Box 128, Coalville, UT 84017. | Summit County Government Office, 60 North Main Street, Coalville, UT 84017. | Oct. 29, 2020 | 490134

[FR Doc. 2020-26053 Filed 11-24-20; 8:45 am]

BILLING CODE 9110-12-P